DEPARTMENT OF STATE

[Public Notice: 9574]

In the Matter of the Designation of ISIL-Yemen, aka Islamic State of Iraq and the Levant-Yemen, aka Islamic State and the Levant in Yemen, aka Islamic State in Yemen, aka ISIS in Yemen, aka Wilayat al-Yemen, aka Province of Yemen as a Specially Designated Global Terrorist

Acting under the authority of and in accordance with sec. 1(b) of Executive Order 13224 of September 23, 2001, as amended by Executive Order 13268 of July 2, 2002, and Executive Order 13284 of January 23, 2003, I hereby determine that the individual known as ISIL-Yemen, also known as Islamic State of Iraq and the Levant-Yemen, also known as Islamic State of Iraq and the Levant in Yemen, also known as Islamic State in Yemen, also known as ISIS in Yemen, also known as Wilayat al-Yemen, also known as Province of Yemen committed, or poses a significant risk of committing, acts of terrorism that threaten the security of U.S. nationals or the national security, foreign policy, or economy of the United States.

Consistent with the determination in sec. 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: March 24, 2016.
John F. Kerry,
Secretary of State.

[FR Doc. 2016-11980 Filed 5-19-16; 8:45 am]

BILLING CODE 4710-AD-P